DEPARTMENT OF DEFENSE

Office of the Secretary

[Transmittal Nos. 14-15]

36(b)(1) Arms Sales Notification

AGENCY: Defense Security Cooperation Agency, Department of Defense.

ACTION: Notice.

SUMMARY: The Department of Defense is publishing the unclassified text of a section 36(b)(1) arms sales notification. This is published to fulfill the requirements of section 155 of Public Law 104-164 dated July 21, 1996.

FOR FURTHER INFORMATION CONTACT: Ms. B. English, DSCA/DBO/CFM, (703) 601-3740.

The following is a copy of a letter to the Speaker of the House of Representatives, Transmittals 14-15 with attached transmittal and policy justification.

Dated: June 18, 2014.
Aaron Siegel,
Alternate OSD Federal Register Liaison Officer, Department of Defense.

BILLING CODE 5001-06-P

BILLING CODE 5001-06-C

Transmittal No. 14-15

Notice of Proposed Issuance of Letter of Offer Pursuant to Section 36(b)(1) of the Arms Export Control Act, as amended

(i) Prospective Purchaser: Brazil

(ii) Total Estimated Value:

Major Defense Equipment* | $0 million
Other | $131 million
Total | $131 million
* As defined in Section 47(6) of the Arms Export Control Act.

(iii) Description and Quantity or Quantities of Articles or Services under Consideration for Purchase: 434 M113A2MK1 Kits to upgrade M113 Armored Personnel Carriers to the M113A2MK1 configuration, spare and repair parts, support equipment, tools and test equipment, personnel training and training equipment, publications and technical documentation, U.S. Government and contractor technical, engineering, and logistics support services, and other related elements of logistics and program support.

(iv) Military Department: Army (UUN)

(v) Prior Related Cases, if any: FMS case UUG-$48M-13Aug10

(vi) Sales Commission, Fee, etc., Paid, Offered, or Agreed to be Paid: None.

(vii) Sensitivity of Technology Contained in the Defense Article or Defense Services Proposed to be Sold: None

(viii) Date Report Delivered to Congress: 11 June 2014

Policy Justification

Brazil—M113A2MK1 Upgrade Kits

The Government of Brazil has requested a possible sale of 434 M113A2MK1 Kits to upgrade M113 Armored Personnel Carriers (APCs) to the M113A2MK1 configuration, spare and repair parts, support equipment, tools and test equipment, personnel training and training equipment, publications and technical documentation, U.S. Government and contractor technical, engineering, and logistics support services, and other related elements of logistics and program support. The estimated cost is $131 million.

The proposed sale will contribute to the foreign policy and national security of the United States by helping to improve the security of Brazil, which has been, and continues to be, an important force for regional stability and economic progress in South America.

Brazil will use this upgrade equipment to modernize and improve its fleet of armored personnel carriers. The M113A2MK1 APCs will provide the Brazilian Army with a more reliable, agile, and effective infantry vehicle capability. Brazil will have no difficulty absorbing this equipment into its armed forces.

The proposed sale of this equipment and support will not alter the basic military balance in the region.

The principal contractor will be BAE Systems in York, Pennsylvania. There are no known offset agreements proposed in connection with this potential sale.

Implementation of this proposed sale will require two U.S. Government or contractor representatives to travel to Brazil for a period of up to seven years to provide technical assistance during the upgrade of the 434 vehicles.

There will be no adverse impact on U.S. defense readiness as a result of this proposed sale.

[FR Doc. 2014-14619 Filed 6-23-14; 8:45 am]

BILLING CODE 5001-06-P